DEPARTMENT OF ENERGY

Notice of Availability of Solicitation

AGENCY: Albuquerque Operations Office, Department of Energy.

ACTION: Notice of availability of solicitation—Research and Development for Truck Essential Power Systems for Increased Powertrain Fuel Efficiency and Overall Systems Efficiency Improvements.

SUMMARY: The U.S. Department of Energy (DOE) Office of Energy Efficiency and Renewable Energy, Office of Heavy Vehicle Technologies (OHVT), is seeking applications for cost-shared research and development for truck Essential Power Systems (EPS). Trucks include Class 2b through Class 8. The Essential Power System is a cross-cutting technology area (technologies and systems) that seeks to provide more efficient, practical, and cost effective management of electrical, mechanical, and thermal power on trucks. The EPS provides a possible technology pathway for future truck electrification.

DATES: Applications are to be received no later than 3 p.m. local prevailing time on August 26, 2002. Any application received after the due date will not be evaluated.

FOR FURTHER INFORMATION CONTACT: Evan M. Dunne, Contract Specialist, DOE/AL, at (505) 845-4798 or by e-mail at edunne@doeal.gov.

SUPPLEMENTARY INFORMATION: The solicitation will be available on the internet on or about July 12, 2002 at the following web site: http://doe-iips.pr.doe.gov/. Applications must be prepared and submitted in accordance with the instructions and forms contained in the solicitation. Teaming arrangements are strongly encouraged, especially among truck original equipment manufacturers (OEM's) and manufacturers of powertrain/engine and truck systems, to take advantage of the best complementary technologies available from the different companies/organizations. Participation of universities, small businesses, state and local governments, Indian tribes, and DOE Laboratories is also encouraged. It is desired by DOE that the primary applicant be an industrial partner. This promotes timely technology transfer to the private sector and enhances U.S. industrial competitiveness.

Issued in Albuquerque, New Mexico.
William L. McCullough,
Contracting Officer, Complex Support Branch, Contracts and Procurement Division.

[FR Doc. 02-17419 Filed 7-10-02; 8:45 am]

BILLING CODE 6450-01-P